DEPARTMENT OF COMMERCE

National Oceanic and Atmospheric Administration

Proposed Information Collection; Comment Request; Fisher Behavior and Protected Species Interactions in Hawai'i and American Samoa Longline Fisheries

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before December 10, 2018.

ADDRESSES: Direct all written comments to Jennifer Jessup, Departmental Paperwork Clearance Officer, Department of Commerce, Room 6616, 14th and Constitution Avenue NW, Washington, DC 20230 (or via the internet at pracomments@doc.gov).

FOR FURTHER INFORMATION CONTACT: Requests for additional information or copies of the information collection instrument and instructions should be directed to Kirsten Leong, (808) 725-5398 or kirsten.leong@noaa.gov.

SUPPLEMENTARY INFORMATION:

I. Abstract

This request is for a new information collection.

The National Marine Fisheries Service (NMFS) proposes to collect information, through interviews, about fisher behavior related to protected species interactions (such as avoidance, handling, and reporting) in the Hawai'i and American Samoa longline fisheries, in order to improve management in those fisheries; satisfy NFMS' legal mandates under Executive Order 12866, the Magnuson-Stevens Conservation and Management Act (U.S.C. 1801 et seq.), the Regulatory Flexibility Act, the Endangered Species Act, and the National Environmental Policy Act; and quantify achievement of the performance measures in the NMFS Strategic Operating Plans. Respondents will include longline fishers, captains, crew, and owners in Hawai`i and American Samoa. Their participation will be voluntary. These data will be used to understand factors that may result in noncompliance with regulations, ensure that regulations are written and implemented so as to be easy to follow and enforceable, and take into account fishermen's concerns. Data will be used to improve design of regulations and communication about them by fishery managers.

II. Method of Collection

Respondents will be interviewed in person.

III. Data

OMB Control Number: 0648-xxxx.

Form Number(s): None.

Type of Review: Regular submission (request for a new information collection).

Affected Public: Business or other for-profit organizations.

Estimated Number of Respondents: 448.

Estimated Time per Response: 30 minutes.

Estimated Total Annual Burden Hours: 224.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: October 5, 2018.
Sarah Brabson,
NOAA PRA Clearance Officer.

[FR Doc. 2018-22099 Filed 10-10-18; 8:45 am]

BILLING CODE 3510-22-P